DEPARTMENT OF THE INTERIOR

National Park Service

[NPS-PWR-PWRO-22324; PPPWGO6AP0/PPMPSAS1Z.YP0000]

Final Environmental Impact Statement for Alcatraz Ferry Embarkation, Counties of Marin and San Francisco, California

AGENCY: National Park Service, Interior.

ACTION: Notice of availability.

SUMMARY: The National Park Service (NPS) has prepared the Final Environmental Impact Statement (Final EIS) for the Alcatraz Ferry Embarkation project. The Final EIS evaluates four alternatives for establishing a long-term ferry embarkation site for passenger service between the northern San Francisco waterfront and Alcatraz Island, and additional occasional ferry service between the Alcatraz ferry embarkation site and the existing Fort Baker pier, as well as other excursions within the San Francisco Bay.

DATES: The NPS will execute a Record of Decision no sooner than 30 days after the date of publication in the Federal Register of the Environmental Protection Agency's (EPA) notice of filing and availability of the Final EIS.

FOR FURTHER INFORMATION CONTACT: Please contact Golden Gate National Recreation Area at (415) 561-4930 or goga_planning@nps.gov.

SUPPLEMENTARY INFORMATION: After operating out of Pier 41 for many years, the Alcatraz Island ferry embarkation site moved to Pier 31½ in 2006 when a new ferry service concessioner was selected, which led to inconsistencies in the delivery of visitor services and impacts on surrounding communities, business interests, and transit providers. Federal law generally limits the term of concession contracts to 10 years or fewer, and requires that a competitive process be used to select new concessioners.

The NPS seeks to secure a site that will provide a long-term orientation and ferry embarkation facility for service to Alcatraz Island from the northern San Francisco waterfront. The NPS desires an identifiable and well-functioning facility that will provide a quality welcome and support program for visitors, orient visitors to the history of Alcatraz Island, and provide a connection to other Golden Gate National Recreation Area (GGNRA) parklands and orientation to the national park system in general. The NPS also seeks to establish additional occasional ferry service between the primary Alcatraz ferry embarkation site and the existing Fort Baker pier, as well as other excursions within the Bay departing from the primary embarkation site. The Final EIS evaluated additional service to and from Fort Mason, but this activity is not included in the preferred alternative. These elements would improve cross-Bay connectivity and accommodate existing and future visitor demand for recreational travel to Fort Baker and the Marin Headlands, thereby enhancing GGNRA's operational effectiveness. Many potential visitors are unable to obtain tickets to Alcatraz Island due to the high demand. Enhanced on-shore visitor facilities would provide those visitors with interpretive information about the island and options for visiting other GGNRA destinations from San Francisco.

Public scoping was initiated in the late spring of 2012. The Notice of Intent to prepare an EIS was published in the Federal Register on June 1, 2012. Scoping meetings were held on June 26 and 28, 2012, at Fort Mason Building 201 in San Francisco and the City Hall in Sausalito, respectively. Over the comment period, approximately 90 correspondences were collected from interested stakeholders.

The Draft EIS was released on March 20, 2015 with comments accepted through June 4, 2015. During the comment period, one public meeting was held on March 31, 2015 at Pier 1 in San Francisco. Approximately 277 pieces of correspondence were received. Some plan content was modified based on public comments, but there have been very few substantial changes to the alternatives under consideration. Changes include adding additional specificity on the number of planned trips for special ferry service to Fort Baker and identifying the preferred alternative to include developing the primary embarkation site as Pier 31½ as well as providing occasional ferry service to Fort Baker.

Range of Alternatives: The Final EIS describes and analyzes four alternatives.

No-Action Alternative: Ferry service to Alcatraz Island would continue from Pier 31½, controlled by the Port of San Francisco, with no changes to management or site operations and infrastructure. This alternative serves as the environmental baseline from which potential effects of the three “action” alternatives were compared.

Pier 31½ Alternative: Retrofit existing structures (parts of piers 31, 33 and associated bulkhead buildings) and establish long-term ferry service and embarkation site operations at Pier 31½ along the Embarcadero. A third berth would be constructed to support ferry travel to other GGNRA sites. This is the “agency-preferred” alternative for the Alcatraz Ferry Embarkation site. This alternative also includes consideration of limited ferry service to/from Fort Baker.

Pier 41 Alternative: Retrofit and expand existing structures and establish long-term embarkation at Pier 41, controlled by the Port of San Francisco in Fisherman's Wharf. A third berth would be constructed to support ferry travel to other GGNRA sites.

Pier 3 Alternative: Retrofit existing structures and establish a long-term embarkation site at Pier 3 in Fort Mason, a federal property managed by GGNRA. A third berth between Piers 1 and 2 would also be constructed.

In the future, the selected embarkation site would include additional ferry services from the primary embarkation site to provide recreational ferry service to other destinations in the Bay, as well as Bay excursions, which would enhance the connectivity and accommodation of visitor demands to other GGNRA destinations. The details associated with providing any such potential ferry service to particular locations other than Alcatraz Island and Fort Baker would be analyzed in future environmental documents.

The NPS will execute a Record of Decision no sooner than 30 days following EPA's notice published in the Federal Register announcing filing and release of the Final EIS. The official responsible for approval of the Alcatraz Ferry Embarkation project is the Regional Director of the Pacific West Region, and subsequently the General Superintendent, GGNRA, will be responsible for implementation.

Dated: November 4, 2016.
Laura E. Joss,
Regional Director, Pacific West Region.

[FR Doc. 2017-01469 Filed 1-23-17; 8:45 am]

BILLING CODE 4312-52-P